DEPARTMENT OF COMMERCE

Foreign-Trade Zones Board

[Order No. 1113]

Expansion of Foreign-Trade Zone 20 Norfolk-Newport News, Virginia, Area

Pursuant to its authority under the Foreign-Trade Zones Act of June 18, 1934, as amended (19 U.S.C. 81a-81u), the Foreign-Trade Zones Board (the Board) adopts the following Order:

Whereas, the Virginia Port Authority, grantee of Foreign-Trade Zone 20 (Norfolk-Newport News, Virginia, area), submitted an application to the Board for authority to expand FTZ 20 to include sites in Accomack County, Virginia, at the Goddard Space Flight Center-Wallops Flight Facility (Site 14) and the Accomack Airport Industrial Park (Site 15), adjacent to the Norfolk-Newport News Customs port of entry (FTZ Docket 44-98; filed 9/15/98; amended on 6/2/99 and 7/24/00);

Whereas, notice inviting public comment was given in the Federal Register (63 FR 51338, 9/25/98) and the application has been processed pursuant to the FTZ Act and the Board's regulations; and,

Whereas, the Board adopts the findings and recommendations of the examiner's report, and finds that the requirements of the FTZ Act and Board's regulations are satisfied, and that the proposal, as amended, is in the public interest;

Now, Therefore, the Board hereby orders:

The application to expand FTZ 20, as amended, is approved, subject to the Act and the Board's regulations, including Section 400.28, and further subject to the Board's standard 2,000-acre activation limit for the overall zone project.

Signed at Washington, DC, this 28th day of July 2000.
Troy H. Cribb,
Acting Assistant Secretary of Commerce for Import Administration, Alternate Chairman, Foreign-Trade Zones Board.
Dennis Puccinelli,
Executive Secretary.

[FR Doc. 00-20987 Filed 8-16-00; 8:45 am]

BILLING CODE 3510-DS-P